DEPARTMENT OF TRANSPORTATION

Office of the Secretary

Aviation Proceedings, Agreements Filed the Week Ending February 27, 2010

The following Agreements were filed with the Department of Transportation under sections 412 and 414 of the Federal Aviation Act, as amended (49 U.S.C. 1382 and 1384) and procedures governing proceedings to enforce these provisions. Answers may be filed within 21 days after the filing of the application.

Docket Number: DOT-OST-2010-0050.

Date Filed: February 26, 2010.

Parties: Members of the International Air Transport Association.

Subject: PTC COMP Mail Vote 620, Resolution 024d, Currency Names, Codes, Rounding Units and Acceptability of currencies. Intended effective date: 1 April 2010.

Docket Number: DOT-OST-2010-0051.

Date Filed: February 26, 2010.

Parties: Members of the International Air Transport Association.

Subject: PTC COMP Mail Vote 626, Resolution 011a, Mileage Manual Non TC Member/Non IATA Carrier Sectors. Intended effective date: 15 March for implementation 1 April 2010.

Docket Number: DOT-OST-2010-0053.

Date Filed: February 26, 2010.

Parties: Members of the International Air Transport Association.

Subject: Mail Vote 625—Resolution 010p, TC3 Japan, Korea-South East Asia, Special Passenger Amending Resolution from Korea (Rep. of) to Guam, Northern Mariana Islands (Memo 1357). Intended effective date: 22 February 2010.

Renee V. Wright,
Program Manager, Docket Operations, Federal Register Liaison.

[FR Doc. 2010-5412 Filed 3-11-10; 8:45 am]

BILLING CODE 4910-62-P